SMALL BUSINESS ADMINISTRATION

[Declaration of Economic Injury Disaster #9ZN2]

State of Alaska

Fairbanks North Star Borough and the Alaska Gateway Regional Education Attendance Area (REAA) and the contiguous areas of Denali Borough, Copper River REAA, Delta/Greely REAA, Yukon Flats REAA, and the Yukon-Koyukuk REAA in the State of Alaska constitute an economic injury disaster area as a result of wildfires that began on June 7, 2004, and continue to burn. The wildfires were caused by lightning strikes, hot temperatures, low humidity, winds and prevailing dry conditions and have caused businesses to suffer substantial economic losses due to smoke and road closures. Eligible small businesses and small agricultural cooperatives without credit available elsewhere may file applications for economic injury assistance for this disaster until the close of business on April 22, 2005, at the address listed below or other locally announced locations: U.S. Small Business Administration, Disaster Area 4 Office, P.O. Box 419004, Sacramento, CA 95610.

The interest rate for eligible small businesses and small agricultural cooperatives is 2.750 percent.

The number assigned for economic injury for this disaster is 9ZN200.

(Catalog of Federal Domestic Assistance Program No. 59002.)
Dated: July 22, 2004.
Hector V. Barreto,
Administrator.

[FR Doc. 04-17435 Filed 7-29-04; 8:45 am]

BILLING CODE 8025-01-P